DEPARTMENT OF LABOR

Employment and Training Administration

[TA-W-59,450]

Theramatrix Physical Therapy & Services, Inc.; Workers at Ford Motor Company; Atlanta Assembly Plant; Hapeville, GA; Notice of Termination of Investigation

Pursuant to Section 221 of the Trade Act of 1974, as amended, an investigation was initiated on May 24, 2006 in response to a worker petition filed on behalf of workers at TheraMatrix Physical Therapy & Services, Inc., workers at Ford Motor Company, Atlanta Assembly Plant, Hapeville, Georgia.

The Department issued a negative determination (TA-W-59,345) applicable to the petitioning group of workers on May 22, 2006. On examination of the current petition, it has been determined to be a duplicate of the previous petition (TA-W-59,345). Consequently, further investigation would serve no purpose, and the investigation has been terminated.

Signed at Washington, DC, this 31st day of May, 2006.
Elliott S. Kushner,
Certifying Officer, Division of Trade Adjustment Assistance.

[FR Doc. E6-9992 Filed 6-23-06; 8:45 am]

BILLING CODE 4510-30-P